DEPARTMENT OF DEFENSE

Department of the Army

Advisory Committee Meeting Notice

AGENCY: U.S. Army Training and Doctrine Command (TRADOC), DoD.

ACTION: Notice of meeting.

SUMMARY: In accordance with section 10(a)(2) of the Federal Advisory Committee Act (P.L. 92-463), announcement is made of the following meeting:

Name of Committee: Distance Learning/Training Technology Subcommittee of the Army Education Advisory Committeee.

Date: 22-23 May, 2001.

Place: Intel Corporation, Phoenix, AZ.

Time: 0800-1630 on 22 May, 2001; 0800-1200 on 23 May 2001.

Proposed Agenda: Dr. Rod Ibieta, Training Project Manager, Intel Corporation, will conduct presentations that focus on Intel initiatives in interactive training, administration and management of courses, and discuss future programs planned for employee training and education.

Key members of the Distance Learning/Training Technology Subcommittee who have made significant contributions to the overall mission of the subcommittee and the Army's Distance Learning Program, will be recognized with service awards.

Purpose of the Meeting: The members will advise the Assistant Deputy Chief of Staff (ADCST), HQ Training and Doctrine Command (TRADOC), on matters pertaining to education and training technologies.

FOR FURTHER INFORMATION CONTACT: All communications regarding this subcommittee should be addressed to Mr. Richard Karpinski, at Commander, Headquarters TRADOC, ATTN: ATTG-CF (Mr. Karpinski), Fort Monroe, VA 23651-5000; telephone number (757) 788-5531.

SUPPLEMENTARY INFORMATION: Meeting of the advisory committee is open to the public. Because of restricted meeting space, attendance will be limited to those persons who have notified the Advisory Committee Management Office in writing at least five days prior to the meeting of their intention to attend. Contact Mr. Karpinski (757-788-5531) for meeting agenda and specific locations.

Any member of the public may file a written statement with the committee before, during or after the meeting. To the extent that time permits, the committee chairman may allow public presentations or oral statements at the meeting.

Luz D. Ortiz,
Army Federal Register Liaison Officer.

[FR Doc. 01-11515 Filed 5-7-01; 8:45 am]

BILLING CODE 3710-08-M